DEPARTMENT OF TRANSPORTATION

National Highway Traffic Safety Administration

Reports, Forms and Recordkeeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on June 16, 2011 (76 FR 35270). The agency received no comments.

DATES: Comments must be submitted on or before October 17, 2011.

ADDRESSESS: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

FOR FURTHER INFORMATION CONTACT: Ms. Deborah Mazyck at the National Highway Traffic Safety Administration, Office of International Policy, Fuel Economy and Consumer Programs, 1200 New Jersey Avenue, SE., West Building, Room W43-443, Washington, DC 20590. Ms. Mazyck's telephone number is (202-366-4139).

SUPPLEMENTARY INFORMATION:

National Highway Traffic Safety Administration

Title: Consolidated Labeling Requirements for 49 CFR Parts 541, 565 and 567.

OMB Number: 2127-0510.

Type of Request: Request for public comment on a reinstatement of a previously approved collection of information.

Abstract: For Parts 541, 565 and 567.

Part 541

The Motor Vehicle Information and Cost Savings Act was amended by the Anti-Car Theft Act of 1992 (Pub. L. 102-519). The enacted Theft Act requires specified parts of high-theft vehicle to be marked with vehicle identification numbers. In a final rule published on April 6, 2004, the Federal Motor Vehicle Theft Prevention Standard was extended to include all passenger cars and multipurpose passenger vehicles with a gross vehicle weight rating of 6,000 pounds or less, and to light duty trucks with major parts that are interchangeable with a majority of the covered major parts of multipurpose passenger vehicles. Each major component part must be either labeled or affixed with the VIN and its replacement component part must be marked with the DOT symbol, the letter (R) and the manufacturers' logo. The final rule became effective September 1, 2006. Due to expansion of the Federal Motor Vehicle Theft Prevention Standard (Part 541), all passenger cars, and multipurpose passenger vehicles with a gross vehicle weight rating of 6,000 pounds or less, and light duty trucks with major parts that are interchangeable with a majority of the covered major parts of multipurpose passenger vehicles, are required to be parts marked.

NHTSA estimates an hour burden of 550,339 hours and a cost burden of $108,790,000 million for Part 541.

Parts 565 and 567

The provision of the Part 565 regulation requires vehicle manufacturers to assign a unique VIN to each new vehicle and to inform NHTSA of the code used in forming the VIN. These regulations apply to all vehicles: Passenger cars, multipurpose passenger vehicles, trucks, buses, trailers, incomplete vehicles, and motorcycles.

NHTSA has amended Part 565 to revise certain sections in order to extend the existing VIN system for another thirty years, and to ensure a sufficient supply of unique available VINs and manufacturer identifiers for that time period (73 FR 23367, April 30, 2008). The agency required information to be provided in a slightly different way (e.g., vehicle make being transferred from the first to the second section of the VIN), the scope of the overall reporting requirement of Part 565 will not change.

Part 567 specifies the content and location of, and other requirements for, the certification label or tag to be affixed to motor vehicles and motor vehicle equipment. Specifically, the VIN is required to appear on the certification label. Additionally, this certificate will provide the consumer with information to assist him or her in determining which of the Federal Motor Vehicle Safety Standards are applicable to the vehicle or equipment, and its date of manufacturer.

NHTSA estimates an hour burden of 247,708 hours and a cost burden of $13,348,000 for Parts 565 and 567.

Affected Public: Vehicle manufacturers.

Estimated Total Annual Burden: The overall total estimated annual hour burden for this collection is 798,047. The overall total estimated cost burden for this collection is $122,138,000 million.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued on: September 12, 2011.
Christopher J. Bonanti,
Associate Administrator for Rulemaking.

[FR Doc. 2011-23632 Filed 9-14-11; 8:45 am]

BILLING CODE 4910-59-P